DEPARTMENT OF THE INTERIOR

Office of the Secretary

Earth Observing System (EOS) Land Processes Distributed Active Archive Center (DAAC) Science Advisory Panel; Notice of Reestablishment

This notice is published in accordance with Section 9(a)(2) of the Federal Advisory Committee Act (Public Law 92-463), 5 U.S.C. App. (1988). Following consultation with the General Services Administration, notice is hereby given that the Secretary of the Interior is reestablishing the EOS Land Processes DAAC Science Advisory Panel.

The purpose of the Panel is to advise the U.S. Geological Survey, Earth Resources Observation Systems (EROS) Data Center in the definition, development, implementation, and operation of data processing, archiving, and distribution systems and associated science support capabilities required in its role as one of eight original DAACs established by the National Aeronautics and Space Administration (NASA) as part of the EOS Program. EOS is a major component of the U.S. Global Change Program.

The Panel is responsible for providing advice and consultation on a broad range of scientific technical topics and for representing the interests and requirements of the scientific research community in guiding development and operation of Land Processes DAAC systems and capabilities. Membership on the Panel includes representation by scientists formally affiliated with the EOS Program and by scientists who do not have such formal affiliation, including representation from the U.S. academic research community.

The Panel functions solely as an advisory body and in compliance with the provisions of the Federal Advisory Committee Act. The Charter will be filed under the Act, 15 days from the date of publication of this notice. Further information regarding the Land Processes DAAC Science Advisory Panel may be obtained from the Director, U.S. Geological Survey, Department of the Interior, 12201 Sunrise Valley Drive, Reston, Virginia 22092. Certification of reestablishment is published below.

Certification

I hereby certify that the reestablishment of the EOS Land Processes DAAC Science Advisory Panel is necessary and in the public interest in connection with the performance of duties undertaken by the Department of the Interior pursuant to the Memorandum of Understanding between the U.S. Geological Survey and the National Aeronautics and Space Administration (NASA) for Experiment Land Remotely Sensed Data Processing, Distribution, Archiving and Related Science Support. The U.S. Geological Survey is authorized to cooperate with NASA in developing and operating the Land Processes DAAC pursuant to the Organic Act of the U.S. Geological Survey of March 3, 1879 (43 U.S.C. 31), Sec. 101(h) of P.L. 99-591 (An act making appropriations for the Department of Interior and related agencies for the fiscal year ending September 10, 1987, and for other purposes.), 100 Stat, 3341, 3341-252; and NASA's Section 203(c)(5) of the National Aeronautics and Space of 1958, as amended (42 U.S.C. 2473(C)(5)).

Dated: January 3, 2000.
Bruce Babbitt,
Secretary of the Interior.

[FR Doc. 00-1599 Filed 1-21-00; 8:45 am]

BILLING CODE 4310-Y7-M